DEPARTMENT OF HOUSING AND URBAN DEVELOPMENT

[Docket No. FR-5122-03]

Notice of Proposed Information Collection: Comment Request; Application for Healthy Homes and Lead Hazard Control Grant Programs and Quality Assurance Plans

AGENCY: Office of Healthy Homes and Lead Hazard Control, HUD.

ACTION: Notice.

SUMMARY: The proposed information collection requirement described below will be submitted to the Office of Management and Budget (OMB) for review, as required by the Paperwork Reduction Act. The Department is soliciting public comments on the subject proposal.

DATES: Comments Due Date: January 7, 2008.

ADDRESSES: Interested persons are invited to submit comments regarding this proposal. Comments should refer to the proposal by name and/or OMB Control Number and should be sent to: Lillian Deitzer, Reports Management Officer, Department of Housing and Urban Development, 451 7th Street, SW., Room 4178, Washington, DC 20410, e-mail Lillian.L.Deitzer@hud.gov, telephone number (202) 708-2374, extension 8048 (this is not a toll-free number. Hearing-or-speech-impaired persons may access the numbers above and below via TTY by calling the toll-free Federal Information Relay Service at 1-800-877-8339.

FOR FURTHER INFORMATION CONTACT: Devasia Karimpanal, Senior Technical Assistance Specialist, Department of Housing and Urban Development, 451 7th Street, SW., Room 8236, Washington, DC 20410; e-mail Devasia.V.Karimpanal@hud.gov, telephone (202) 402-7682.

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Application for Healthy Homes and Lead Hazard Control Grant Programs and Quality Assurance Plans.

OMB Control Number, if applicable: 2539-0015.

Description of the need for the information and proposed use:

This information collection is required in conjunction with the issuance of Notices of Funding Availability for approximately $150,000,000 for Healthy Homes and Lead Hazard Control Programs that are authorized under Title X of the Housing and Community Development Act of 1992, Public Law 102-550, section 1011, and other legislation.

After the award of grants, HUD's Office of Healthy Homes and Lead Hazard Control requires its Healthy Homes Demonstration, Healthy Homes Technical Studies grantees, and Lead Technical Studies grantees which are conducting research or significant evaluation activities, to submit a Quality Assurance Plan (QAP) to the Office for approval before they initiate data collection. This requirement also applies to Office of Healthy Homes and Lead Hazard Control contractors who conduct such research or evaluation activities. This requirement has been established because quality assurance procedures ensure the accuracy and validity of data. The use of quality assurance plan templates helps to ensure that quality assurance activities are well planned and thorough, and standardizes the formatting of the plans, which aids both the respondents in plan development and HUD staff in their review. The use of different templates for technical studies and demonstration projects was designed to reduce respondent burden by requiring more detailed information only for the technical studies (research) projects, consistent with their more rigorous quality assurance requirements.

Agency form numbers, if applicable: HUD 96008, 96012, 96013, 960014, 96015, and standard grant forms.

Total Burden Estimate (annual):

Application Development: Number of respondents: 330; frequency of responses: 1; hours per response: 25; burden hours: 8250.

Award of Grant: Number of respondents: 80; frequency of responses: 1; hours per response: 15; burden hours: 1200.

Quality Assurance Plan: Number of respondents: 20; Frequency of response: 1; Hours per response: 24; Total Burden Hours: 480.

Grand total of estimated burden hours: 9930.

Status of the proposed information collection: This is a revision of a currently approved collection.

Members of Affected Public: Potential applicants include State, tribal, local governments, not-for-profit institutions and for-profit firms located in the U.S. state and units of general local government, and federally recognized Native American Tribes.

Additional Information: The obligation to respond to this information collection is required to obtain or retain benefits.

Authority: Section 3506 of the Paperwork Reduction Act of 1995, 44 U.S.C. Chapter 35, as amended.

Dated: October 29, 2007.
Jon L. Gant,
Director, Office of Healthy Homes and Lead Hazard Control.

[FR Doc. 07-5499 Filed 11-5-07; 8:45 am]

BILLING CODE 4210-67-M